SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection package that may be included in this notice is for a new information collection.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the address and fax number listed below:

(SSA) Social Security Administration, DCFAM, Attn: Reports Clearance Officer, 1333 Annex Building, 6401 Security Blvd., Baltimore, MD 21235, Fax: 410-965-6400.

The information collection listed below is pending at SSA and will be submitted to OMB within 60 days from the date of this notice. Therefore, your comments should be submitted to SSA within 60 days from the date of this publication. You can obtain copies of the collection instrument by calling the SSA Reports Clearance Officer at 410-965-0454 or by writing to the address listed above.

SSA Survey of Ticket to Work Beneficiaries—0960-NEW. The Social Security Administration (SSA) plans to survey two groups of Social Security beneficiaries who qualified for the Ticket to Work program. The first group consists of those beneficiaries who did choose to enter the program, while those in the second group did not. The information gathered by the survey will be used to assess and contrast the social and media interaction preferences of these beneficiaries. SSA will use the information to develop a communications plan to inform beneficiaries who have not yet entered the program, and persons who might influence their decision, of the benefits that can be derived from this program. Of specific interest are which media (print, radio formats, TV/cable programming, etc.) will have the greatest impact on the target populations. The respondents are Social Security beneficiaries who qualified for the Ticket to Work program.

Type of Request: New information collection.

Number of Respondents: 800.

Frequency of Response: 1.

Average Burden Per Response: 15 minutes.

Estimated Annual Burden: 200 hours.

Dated: May 11, 2006.
Elizabeth A. Davidson,
Reports Clearance Officer, Social Security Administration.

[FR Doc. E6-7472 Filed 5-16-06; 8:45 am]

BILLING CODE 4191-02-P